NATIONAL SCIENCE FOUNDATION

Agency Information Collection Activities: Proposed Collection; Comment Request

AGENCY: National Science Foundation.

ACTION: Notice and request for comments.

SUMMARY: Under the Paperwork Reduction Act of 1995, Pub. L. 104-13 (44 U.S.C. 3501 et seq.), and as part of its continuing effort to reduce paperwork and respondent burden, the National Science Foundation (NSF) is inviting the general public or other Federal agencies to comment on this proposed continuing information collection. The NSF will publish periodic summaries of the proposed projects.

Comments: Comments are invited on (a) whether the proposed collection of information is necessary for the proper performance of the functions of the NSF, including whether the information will have practical utility; (b) the accuracy of the NSF's estimate of the burden of the proposed collection of information; (c) ways to enhance the quality, utility, and clarity of the information to be collected, including through the use of automated collection techniques or other forms of information technology; and (d) ways to minimize the burden of the collection of information on those who are to respond, including through the use of appropriate automated collection techniques or other forms of information technology.

DATES: Written comments on this notice must be received by October 10, 2014 to be assured consideration. Comments received after that date will be considered to the extent practicable. Send comments to address below.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: 2015 Survey of Doctorate Recipients.

OMB Approval Number: 3145-0020.

Expiration Date of Approval: November 30, 2014.

Type of Request: Intent to seek approval to reinstate an information collection for three years.

1. Abstract. The Survey of Doctorate Recipients (SDR) has been conducted biennially since 1973 and is a longitudinal survey. The 2015 SDR will consist of a sample of individuals less than 76 years of age who have earned a research doctoral degree in a science, engineering or health (SEH) field from a U.S. institution. The purpose of this panel survey is to collect data that will be used to provide national estimates on the doctoral science and engineering workforce and changes in their employment, education and demographic characteristics.

The National Science Foundation Act of 1950, as subsequently amended, includes a statutory charge to “. . . provide a central clearinghouse for the collection, interpretation, and analysis of data on scientific and engineering resources, and to provide a source of information for policy formulation by other agencies of the Federal Government.” The SDR is designed to comply with these mandates by providing information on the supply and utilization of the nation's doctoral level scientists and engineers. The NSF uses the information from the SDR to prepare congressionally mandated reports such as Women, Minorities and Persons with Disabilities in Science and Engineering and Science and Engineering Indicators. The NSF publishes statistics from the SDR in many reports, but primarily in the biennial series, Characteristics of Doctoral Scientists and Engineers in the United States. A public release file of collected data, designed to protect respondent confidentiality, also will be made available to researchers on the Internet.

Data will be obtained by web survey, mail questionnaire, and computer-assisted telephone interviews beginning in February 2015. The survey will be collected in conformance with the Confidential Information Protection and Statistical Efficiency Act of 2002 and the individual's response to the survey is voluntary. NSF will ensure that all information collected will be kept strictly confidential and will be used only for statistical purposes.

2. Potential Sample Expansion. The U.S. Office of Management and Budget (OMB) has directed that NSF explore options to enhance and expand the sample to measure employment outcomes by the fine field of degree taxonomy used in the Survey of Earned Doctorates. The SDR is a probability sample representing all individuals who received a doctoral degree from a U.S. institution in a SEH field. To provide reliable estimates by fine fields requires sample augmentation given that the current SDR lacks a sufficient sample size to support reliable estimates by fine field by gender, ethnicity, and race. NSF estimates increasing the current 47,000 sample size by no more than 70,000 for a total sample size not to exceed 117,000 SEH doctorate holders.

3. Expected Respondents. Including the expansion, a statistical sample of approximately 117,000 individuals with U.S. earned doctorates in science, engineering or health will be contacted in 2015. This sample will include approximately 110,000 individuals residing in the U.S. (national component) and 7,000 residing abroad (international component). NSF expects the overall 2015 SDR response rate to be approximately 80 percent.

4. Estimate of Burden. The amount of time to complete the questionnaire may vary depending on an individual's circumstances; however, on average takes approximately 25 minutes. NSF estimates that the annual burden, with the maximum sample expansion, will be 36,666 hours for the national component and 2,333 hours for the international component. Thus, NSF estimates that the total annual burden for both components will be 39,000 hours (=117,000 respondents × 80% response rate × 25 minutes).

Dated: August 5, 2014.
Suzanne H. Plimpton,
Reports Clearance Officer, National Science Foundation.

[FR Doc. 2014-18873 Filed 8-8-14; 8:45 am]

BILLING CODE 7555-01-P